DEPARTMENT OF ENERGY

Federal Energy Regulatory Commission

Combined Notice of Filings #1

Take notice that the Commission received the following electric corporate filings:

Docket Numbers: EC23-78-000.

Applicants: Casa Mesa Wind, LLC, Chaves County Solar, LLC, Langdon Renewables, LLC, Live Oak Solar, LLC, New Mexico Wind, LLC, NextEra Energy Montezuma II Wind, LLC, River Bend Solar, LLC, NEP US SellCo, LLC, NEP US SellCo II, LLC, NextEra Energy Partners Acquisitions, LLC.

Description: Joint Application for Authorization Under Section 203 of the Federal Power Act of Casa Mesa Wind, LLC, et al.

Filed Date: 4/25/23.

Accession Number: 20230425-5335.

Comment Date: 5 p.m. ET 5/16/23.

Docket Numbers: EC23-79-000.

Applicants: Newark Energy Center LLC.

Description: Joint Application for Authorization Under Section 203 of the Federal Power Act of Newark Energy Center, LLC, et al.

Filed Date: 4/27/23.

Accession Number: 20230427-5243.

Comment Date: 5 p.m. ET 5/18/23.

Take notice that the Commission received the following exempt wholesale generator filings:

Docket Numbers: EG23-136-000.

Applicants: Elawan Pitts Dudik Solar, LLC.

Description: Elawan Pitts Dudik Solar, LLC. submits Notice of Self-Certification of Exempt Wholesale Generator Status.

Filed Date: 4/26/23.

Accession Number: 20230426-5302.

Comment Date: 5 p.m. ET 5/17/23.

Docket Numbers: EG23-137-000.

Applicants: Holtville BESS, LLC.

Description: Holtville BESS, LLC submits Notice of Self-Certification of Exempt Wholesale Generator Status.

Filed Date: 4/26/23.

Accession Number: 20230426-5307.

Comment Date: 5 p.m. ET 5/17/23.

Docket Numbers: EG23-138-000.

Applicants: Elawan Dileo Solar, LLC.

Description: Elawan Dileo Solar, LLC submits Notice of Self-Certification of Exempt Wholesale Generator Status.

Filed Date: 4/26/23.

Accession Number: 20230426-5308.

Comment Date: 5 p.m. ET 5/17/23.

Take notice that the Commission received the following electric rate filings:

Docket Numbers: ER10-1819-036; ER10-1817-027; ER10-1818-034; ER10-1820-039.

Applicants: Northern States Power Company, a Wisconsin corporation, Public Service Company of Colorado, Southwestern Public Service Company, Northern States Power Company, a Minnesota corporation.

Description: Notice of Change in Status of Northern States Power Company, a Minnesota corporation, et al.

Filed Date: 4/26/23.

Accession Number: 20230426-5318.

Comment Date: 5 p.m. ET 5/17/23.

Docket Numbers: ER18-1639-023.

Applicants: Constellation Mystic Power, LLC.

Description: Compliance filing: Compliance Filing on Remand Order to be effective 6/1/2022.

Filed Date: 4/27/23.

Accession Number: 20230427-5311.

Comment Date: 5 p.m. ET 5/18/23.

Docket Numbers: ER23-982-001.

Applicants: CPV Three Rivers, LLC.

Description: Compliance filing: Reactive Service Rate Schedule Compliance Filing to be effective 4/1/2023.

Filed Date: 4/27/23.

Accession Number: 20230427-5246.

Comment Date: 5 p.m. ET 5/18/23.

Docket Numbers: ER23-1221-001.

Applicants: Duquesne Light Company, PJM Interconnection, L.L.C.

Description: Tariff Amendment: Duquesne Light Company submits tariff filing per 35.17(b): Amendment Duquesne re Beaver Valley Deactivation Trans Proj ER23-1221 to be effective 12/31/9998.

Filed Date: 4/27/23.

Accession Number: 20230427-5216.

Comment Date: 5 p.m. ET 5/18/23.

Docket Numbers: ER23-1222-001.

Applicants: Duquesne Light Company, PJM Interconnection, L.L.C.

Description: Tariff Amendment: Duquesne Light Company submits tariff filing per 35.17(b): Amendment Duquesne re Dravosburg-Elrama Exp Project ER23-1222 to be effective 12/31/9998.

Filed Date: 4/27/23.

Accession Number: 20230427-5220.

Comment Date: 5 p.m. ET 5/18/23.

Docket Numbers: ER23-1241-001; ER23-1517-001.

Applicants: IP Oberon II, LLC, IP Oberon, LLC.

Description: Supplement to April 13, 2023 IP Oberon, LLC et al. tariff filings.

Filed Date: 4/25/23.

Accession Number: 20230425-5341.

Comment Date: 5 p.m. ET 5/4/23.

Docket Numbers: ER23-1265-001.

Applicants: PJM Interconnection, L.L.C.

Description: Tariff Amendment: Amendment to GDECS Phase 7—Docket No. ER23-1265-000 to be effective 5/8/2023.

Filed Date: 4/27/23.

Accession Number: 20230427-5291.

Comment Date: 5 p.m. ET 5/18/23.

Docket Numbers: ER23-1721-000.

Applicants: Duke Energy Florida, LLC.

Description: § 205(d) Rate Filing: Annual Filing of Cost Factor Updates—2023 to be effective 5/1/2023.

Filed Date: 4/27/23.

Accession Number: 20230427-5004.

Comment Date: 5 p.m. ET 5/18/23.

Docket Numbers: ER23-1722-000.

Applicants: PJM Interconnection, L.L.C.

Description: § 205(d) Rate Filing: ISA, Original SA No. 6870; Queue No. AD1-074/AD1-075/AD1-076 to be effective 3/30/2023.

Filed Date: 4/27/23.

Accession Number: 20230427-5070.

Comment Date: 5 p.m. ET 5/18/23.

Docket Numbers: ER23-1723-000.

Applicants: PacifiCorp.

Description: Notice of Termination of Service Agreement No. 8 under PacifiCorp's FERC Electric Tariff Volume No. 6.

Filed Date: 4/25/23.

Accession Number: 20230425-5342.

Comment Date: 5 p.m. ET 5/16/23.

Docket Numbers: ER23-1724-000.

Applicants: Midcontinent Independent System Operator, Inc., Ameren Transmission Company of Illinois.

Description: § 205(d) Rate Filing: Midcontinent Independent System Operator, Inc. submits tariff filing per 35.13(a)(2)(iii: 2023-04-27_SA 4045 ATXI-Sikeston Construction Agreement to be effective 6/27/2023.

Filed Date: 4/27/23.

Accession Number: 20230427-5089.

Comment Date: 5 p.m. ET 5/18/23.

Docket Numbers: ER23-1726-000.

Applicants: Southern California Edison Company.

Description: § 205(d) Rate Filing: UFA, Rough Hat 2 (Q1799-TOT979/SA299) to be effective 4/28/2023.

Filed Date: 4/27/23.

Accession Number: 20230427-5113.

Comment Date: 5 p.m. ET 5/18/23.

Docket Numbers: ER23-1727-000.

Applicants: Southern California Edison Company.

Description: § 205(d) Rate Filing: UFA, Rough Hat Hybrid Solar (Q1650-TOT949/SA298) to be effective 4/28/2023.

Filed Date: 4/27/23.

Accession Number: 20230427-5116.

Comment Date: 5 p.m. ET 5/18/23.

Docket Numbers: ER23-1728-000.

Applicants: Midcontinent Independent System Operator, Inc.

Description: § 205(d) Rate Filing: 2023-04-27_Attachment X Continuous Improvement filing to be effective 6/27/2023.

Filed Date: 4/27/23.

Accession Number: 20230427-5148.

Comment Date: 5 p.m. ET 5/18/23.

Docket Numbers: ER23-1729-000.

Applicants: Alabama Power Company, Georgia Power Company, Mississippi Power Company.

Description: § 205(d) Rate Filing: Alabama Power Company submits tariff filing per 35.13(a)(2)(iii: Tri-State II Solar Project (Solar & Battery) LGIA Filing to be effective 4/18/2023.

Filed Date: 4/27/23.

Accession Number: 20230427-5199.

Comment Date: 5 p.m. ET 5/18/23.

Docket Numbers: ER23-1730-000.

Applicants: Pacific Gas and Electric Company.

Description: § 205(d) Rate Filing: Q1 2023 Quarterly Filing of City and County of San Francisco's WDT SA (SA 275) to be effective 3/31/2023.

Filed Date: 4/27/23.

Accession Number: 20230427-5221.

Comment Date: 5 p.m. ET 5/18/23.

Docket Numbers: ER23-1731-000.

Applicants: GSG 6, LLC.

Description: § 205(d) Rate Filing: Assignment, Co-Tenancy and Shared Facilities Agreement with Waivers to be effective 4/28/2023.

Filed Date: 4/27/23.

Accession Number: 20230427-5223.

Comment Date: 5 p.m. ET 5/18/23.

Docket Numbers: ER23-1732-000.

Applicants: Shady Oaks Wind 2, LLC.

Description: Baseline eTariff Filing: Certificate of Concurrence & Request for Waiver & Blanket Approval to be effective 4/28/2023.

Filed Date: 4/27/23.

Accession Number: 20230427-5233.

Comment Date: 5 p.m. ET 5/18/23.

Docket Numbers: ER23-1733-000.

Applicants: SFE Energy Massachusetts, Inc.

Description: Baseline eTariff Filing: Market-Based Rate Application to be effective 6/27/2023.

Filed Date: 4/27/23.

Accession Number: 20230427-5259.

Comment Date: 5 p.m. ET 5/18/23.

Docket Numbers: ER23-1734-000.

Applicants: SFE Energy, Inc.

Description: Baseline eTariff Filing: Market-Based Rate Application to be effective 6/27/2023.

Filed Date: 4/27/23.

Accession Number: 20230427-5267.

Comment Date: 5 p.m. ET 5/18/23.

Take notice that the Commission received the following public utility holding company filings:

Docket Numbers: PH23-12-000.

Applicants: Enbridge Inc.

Description: Enbridge Inc. submits FERC-65A Notice of Change in Fact to Waiver Notification.

Filed Date: 4/26/23.

Accession Number: 20230426-5322.

Comment Date: 5 p.m. ET 5/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2023.
Debbie-Anne A. Reese,
Deputy Secretary.

[FR Doc. 2023-09383 Filed 5-2-23; 8:45 am]

BILLING CODE 6717-01-P